DEPARTMENT OF STATE

[Public Notice: 11895]

Notification of the Meetings of the United States-Panama Environmental Affairs Council and Environmental Cooperation Commission

ACTION: Notice of meetings and request for comments; invitation to public session.

SUMMARY: The Department of State and the Office of the United States Trade Representative (USTR) are providing notice that the United States and Panama plan to hold meetings of the United States-Panama Environmental Affairs Council (the “Council”) and Environmental Cooperation Commission (the “Commission”) on December 5, 2022, in Panama City, Panama. The purpose of the meetings of these two bodies, respectively, is to review implementation of the Environment Chapter (Chapter 17) of the United States-Panama Trade Promotion Agreement (TPA) and the United States-Panama Environmental Cooperation Agreement (ECA). The Department of State and USTR also invite written comments or questions to be submitted no later than November 25, 2022, regarding implementation of Chapter 17 and the ECA, and any topics that should be discussed at the Council and Commission meetings consistent with their respective purposes. When preparing comments, submitters are encouraged to refer to Chapter 17 of the TPA and/or the ECA, as relevant (available at https://www.state.gov/key-topics-office-of-environmental-quality-and-transboundary-issues/current-trade-agreements-with-environmental-chapters/#panama and https://ustr.gov/trade-agreements/free-trade-agreements/panama-tpa/final-text). Instructions on how to submit comments are under the heading ADDRESSES.

DATES: The public sessions of the Council and Commission will be held on December 5, 2022, from 5 to 6:30 p.m. EST in Panama City, Panama, with an option to join virtually. Please contact Anel Gonzalez-Ruiz and Sigrid Simpson for the location of this meeting in Panama City, Panama, or to request a link to join virtually. Confirmations of attendance and comments or suggestions are requested in writing no later than November 25, 2022.

ADDRESSES: Written comments or suggestions should be submitted to both:

(1) Anel Gonzalez-Ruiz, U.S. Department of State, Bureau of Oceans and International Environmental and Scientific Affairs, Office of Environmental Quality, by email to Gonzalez-RuizA@state.gov with the subject line “United States-Panama TPA EAC/ECC Meetings”; and

(2) Sigrid Simpson, Director for Environment and Natural Resources, Office of the United States Trade Representative, by email to Sigrid.A.Simpson@ustr.eop.gov with the subject line “United States-Panama TPA EAC/ECC Meetings”.

In your email, please include your full name and organization. If you have access to the internet, you can view and comment on this notice by going to: https://www.regulations.gov/#!home and searching for docket number DOS-2022-0039.

FOR FURTHER INFORMATION CONTACT: Anel Gonzalez-Ruiz, (202) 705-5282, or Sigrid Simpson, (202) 881-6592.

SUPPLEMENTARY INFORMATION: Article 17.6 of the TPA establishes an Environmental Affairs Council and provides that, unless the Parties otherwise agree, the Council shall meet annually to oversee the implementation of, and review progress under, Chapter 17, and to consider the status of cooperation activities developed under the ECA. Article 17.6 further requires that, unless the Parties otherwise agree, each meeting of the Council include a session in which members of the Council have an opportunity to meet with the public to discuss matters relating to the implementation of Chapter 17.

Article III of the ECA establishes an Environmental Cooperation Commission responsible for, among other things, establishing, examining, and evaluating cooperative activities under the ECA. The ECC shall meet once a year, unless otherwise decided.

On December 5, 2022, the Council will meet in a closed government-to-government session to (1) review implementation of Chapter 17; (2) receive a report from the United States-Panama Secretariat for Environmental Enforcement Matters on the status of public submissions; and (3) review activities under the United States-Panama 2018-2022 Environmental Cooperation Work Program and possible cooperation for the future under the ECA.

The Council and Commission invites all interested persons to attend a public session on Chapter 17 implementation and environmental cooperation under the ECA, beginning at 5 p.m. EST on December 5, 2022. At the session, the Council will welcome questions, input, and information about challenges and achievements in implementation of Chapter 17 and the ECA. If you would like to attend the public session either in-person, in Panama City, Panama, or virtually, please notify Anel Gonzalez-Ruiz and Sigrid Simpson at the email addresses listed under the heading ADDRESSES.

Visit the Department of State website at www.state.gov and the USTR website at www.ustr.gov for more information.

Sherry Zalika Sykes,
Director, Office of Environmental Quality, U.S. Department of State.

[FR Doc. 2022-23031 Filed 10-21-22; 8:45 am]

BILLING CODE 4710-09-P